DEPARTMENT OF THE INTERIOR

Geological Survey

Federal Geographic Data Committee (FGDC); Public Review of Content Standard for Digital Geospatial Metadata: Extensions for Remove Sensing Metadata

ACTION: Notice; request for comments.

SUMMARY: The FGDC is conducting a public review of the draft Content Standard for Digital Geospatial Metadata: Extensions for Remote Sensing Metadata. An interagency team under the sponsorship of the FGDC Standards Working Group developed this draft standard over several years and the FGDC Coordination Group comprised of representatives from Federal agencies approved releasing this standard for public review. The FGDC invites software vendors and data users and producers in public and private sectors to comment on this standard to ensure that the standard meets their needs.

Comments that address specific issues/changes/additions may result in revisions to the draft NSDI Content Standard for Digital Geospatial Metadata: Extensions for Remove Sensing Metadata. After comments have been evaluated, participants will receive notification of how their comments were addressed. After formal endorsement of the standard by the FGDC, the standard and a summary analysis of the changes will be made available to the public.

DATES: Comments must be received on or before Friday, August 31, 2001.

ADDRESSES: The draft standard may be downloaded via Internet address http://www.fgdc.gov/standards/status/csdgm_rs_ex.html

Request for printed copies of the standard should be addressed to “Extensions for Remote Sensing Metadata,” FGDC Secretariat (attn: Julie Binder Maitra), U.S. Geological Survey, 590 National Center, 12201 Sunrise Valley Drive, Reston, Virginia 20192 or facsimile 703-648-5755 or Internet at jmaitra@usgs.gov.

Reviewer's comments may be sent to FGDC via Internet mail to gdc-remotesensing@www.fgdc.gov. Reviewer's comments may also be sent to the FGDC Secretariat at the above postal address. If sending comments by postal mail, please send one hardcopy version of the comments and a softcopy version on 3.5-inch diskette in Microsoft Word or Rich Text Format. All reviewers are strongly urged to use the template for sending comments that may be downloaded from Internet address http://www.fdgc.gov/standards/directives/dir2d.html

SUPPLEMENTARY INFORMATION: Following is information about the draft Content Standard for Digital Geospatial Metadata: Extensions for Remote Sensing Metadata, submitted by the FGDC Standards Working Group:

Objectives: The purpose of this standard is to provide extensions to the Federal Geographic Data Committee (FGDC) Content Standard for Digital Geospatial Metadata (also referred to hereafter as the Metadata Content Standard) for metadata describing geospatial data obtained from remote sensing. Efforts are being made to make these extensions compatible with the framework and content of the ISO metadata standard now undergoing the approval process, in order that the FGDC standard can be converted to ISO form for use as remote sensing extensions to the ISO standard.

Scope: These extensions define content standards for additional metadata, not defined in the Metadata Content Standard, that are needed to describe data obtained from remote sensing. They include metadata describing the sensor, the platform, the method and process of deriving geospatial information from the raw telemetry, and the information needed to determine the geographical location of the remotely sensed data. In addition, metadata to support aggregation, both the components of an aggregate data set and the larger collection of which a data item may be a member, will be supported.

Karen Siderelis,
Geographic Information Officer.

[FR Doc. 01-18748 Filed 7-26-01; 8:45 am]

BILLING CODE 4310-Y7-M